DEPARTMENT OF DEFENSE

Department of the Air Force

HQ USAF Scientific Advisory Board

AGENCY: Department of the Air Force, DoD.

ACTION: Notice of meeting.

SUMMARY: Pursuant to Public Law 92-463, notice is hereby given of the forthcoming meeting of the Task Force on the Threat of Asymmetric Attack. The purpose of the meeting is to allow the SAB and study leadership to review their progress on strategies for the conduct of asymmetric warfare. This meeting will be closed to the public.

DATES: April 1, 2002.

ADDRESSES: Frost & Associates, 660 Southpointe Court, Suite 210, Colorado Springs, CO 80906.

FOR FURTHER INFORMATION CONTACT: Mr. Robert Ripperger, Air Force Scientific Advisory Board Secretariat, 1180 AirForce Pentagon, Rm 5D982, Washington DC 20330-1180, (703) 697-4811.

Pamela D. Fitzgerald,
Air Force Federal Register Liaison Officer.

[FR Doc. 02-6679 Filed 3-19-02; 8:45 am]

BILLING CODE 5001-05-U